DEPARTMENT OF ENERGY

Federal Energy Regulatory Commission

Combined Notice of Filings

Take notice that the Commission has received the following Natural Gas Pipeline Rate and Refund Report filings:

Filings Instituting Proceedings

Docket Numbers: PR26-36-000.

Applicants: Eco-Energy White River, LLC.

Description: Blanket Certificate Filing: Refile to be effective 7/15/2026.

Filed Date: 2/19/26.

Accession Number: 20260219-5123.

Comment Date: 5 p.m. ET 3/12/26.

Docket Numbers: RP26-494-000.

Applicants: Northern Natural Gas Company.

Description: § 4(d) Rate Filing: 20260219 Negotiated Rate Filing to be effective 2/20/2026.

Filed Date: 2/19/26.

Accession Number: 20260219-5106.

Comment Date: 5 p.m. ET 3/3/26.

Docket Numbers: RP26-495-000.

Applicants: Golden Pass Pipeline LLC.

Description: Compliance filing: Golden Pass Pipeline LLC 2026 Operational Purchases and Sales Report to be effective 4/1/2026.

Filed Date: 2/19/26.

Accession Number: 20260219-5121.

Comment Date: 5 p.m. ET 3/3/26.

Docket Numbers: RP26-496-000.

Applicants: Florida Gas Transmission Company, LLC.

Description: § 4(d) Rate Filing: Interim Fuel Adjustment on 2-20-26 to be effective 3/1/2026.

Filed Date: 2/20/26.

Accession Number: 20260220-5018.

Comment Date: 5 p.m. ET 3/4/26.

Docket Numbers: RP26-497-000.

Applicants: Eastern Gas Transmission and Storage, Inc.

Description: § 4(d) Rate Filing: EGTS—2026 Fuel Retention Percentages to be effective 4/1/2026.

Filed Date: 2/20/26.

Accession Number: 20260220-5027.

Comment Date: 5 p.m. ET 3/4/26.

Docket Numbers: RP26-498-000.

Applicants: Panhandle Eastern Pipe Line Company, LP.

Description: § 4(d) Rate Filing: Negotiated Rates Housekeeping Filing on 2-20-26 to be effective 3/20/2026.

Filed Date: 2/20/26.

Accession Number: 20260220-5030.

Comment Date: 5 p.m. ET 3/4/26.

Docket Numbers: RP26-499-000.

Applicants: Cove Point LNG, LP.

Description: § 4(d) Rate Filing: Cove Point—2026 Annual EPCA to be effective 4/1/2026.

Filed Date: 2/20/26.

Accession Number: 20260220-5038.

Comment Date: 5 p.m. ET 3/4/26.

Docket Numbers: RP26-500-000.

Applicants: Cove Point LNG, LP.

Description: § 4(d) Rate Filing: Cove Point—2026 Annual Fuel Retainage to be effective 4/1/2026.

Filed Date: 2/20/26.

Accession Number: 20260220-5041.

Comment Date: 5 p.m. ET 3/4/26.

Docket Numbers: RP26-501-000.

Applicants: Millennium Pipeline Company, LLC.

Description: § 4(d) Rate Filing: RAM 2026 to be effective 4/1/2026.

Filed Date: 2/20/26.

Accession Number: 20260220-5056.

Comment Date: 5 p.m. ET 3/4/26.

Docket Numbers: RP26-502-000.

Applicants: Columbia Gas Transmission, LLC.

Description: § 4(d) Rate Filing: Negotiated Rate Agreement—Nextera 338764 Eff 2.20.26 to be effective 2/20/2026.

Filed Date: 2/20/26.

Accession Number: 20260220-5108.

Comment Date: 5 p.m. ET 3/4/26.

Docket Numbers: RP26-503-000.

Applicants: Northern Natural Gas Company.

Description: § 4(d) Rate Filing: 20260220 Negotiated Rate Filing to be effective 2/21/2026.

Filed Date: 2/20/26.

Accession Number: 20260220-5162.

Comment Date: 5 p.m. ET 3/4/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP26-491-001.

Applicants: National Fuel Gas Supply Corporation.

Description: Compliance filing: Correction RP26-491 to be effective 4/1/2026.

Filed Date: 2/20/26.

Accession Number: 20260220-5132.

Comment Date: 5 p.m. ET 3/4/26.

Any person desiring to protest in any of the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 20, 2026.
Carlos D. Clay,
Deputy Secretary.

[FR Doc. 2026-03721 Filed 2-24-26; 8:45 am]

BILLING CODE 6717-01-P